SMALL BUSINESS ADMINISTRATION

[License No. 04/04-0298]

C3 Capital Partners II, L.P.; Notice Seeking Exemption Under Section 312 of the Small Business Investment Act, Conflicts of Interest

Notice is hereby given that C3 Capital Partners II, L.P., 4520 Main Street, Suite 1600, Kansas City, MO 64111, a Federal Licensee under the Small Business Investment Act of 1958, as amended (“the Act”), in connection with the financing of a small concern, has sought an exemption under Section 312 of the Act and Section 107.730, Financings which Constitute Conflicts of Interest, of the Small Business Administration (“SBA”) Rules and Regulations (13 CFR 107.730). C3 Capital Partners II, L.P. proposes to provide equity/debt security financing to Findett, LLC, 8 Governor Drive, St. Charles, MO 63301. The financing is contemplated for the acquisition of a supplier and growth capital.

The financing is brought within the purview of § 107.730(a)(1) of the Regulations because C3 Capital Partners, L.P. an Associate of C3 Capital Partners II, L.P., owns more than ten percent of Findett, LLC; therefore Findett, LLC is considered an Associate of C3 Capital Partners II, L.P., as defined in Sec. 105.50 of the regulations.

Notice is hereby given that any interested person may submit written comments on the transaction to the Associate Administrator for Investment, U.S. Small Business Administration, 409 Third Street, SW., Washington, DC 20416.

Dated: March 19, 2009.
Harry E. Haskins,
Acting Associate Administrator for Investment.

[FR Doc. E9-7546 Filed 4-3-09; 8:45 am]

BILLING CODE 8025-01-P